DEPARTMENT OF THE TREASURY

Bureau of Alcohol, Tobacco and Firearms

[Docket No. 944; ATF O 1130.31]

Delegation of the Director's Authorities in 27 CFR Part 44, Exportation of Tobacco Products and Cigarette Papers and Tubes, Without Payment of Tax, or With Drawback of Tax

To: All Bureau Supervisors

1. Purpose. This order delegates certain authorities of the Director to subordinate ATF officials and prescribes the subordinate ATF officials with whom persons file documents which are not ATF forms.

2. Background. Under current regulations, the Director has authority to take final action on matters relating to exportation of tobacco products and cigarette papers and tubes, without payment of tax, or with drawback of tax. The Bureau has determined that certain of these authorities should, in the interest of efficiency, be delegated to a lower organizational level.

3. Cancellation. ATF O 1100.102A, Delegation Order—Delegation to the Associate Director (Compliance Operations) of Authorities of the Director in 27 CFR part 290, Exportation of Tobacco Products, dated 2/28/84, is canceled.

4. Delegations. Under the authority vested in the Director, Bureau of Alcohol, Tobacco and Firearms, by Treasury Department Order No. 120-01 (formerly 221), dated June 6, 1972, and by 26 CFR 301.7701-9, this ATF order delegates certain authorities to take final action prescribed in 27 CFR part 44 to subordinate officials. Also, this ATF order prescribes the subordinate officials with whom applications, notices, and reports required by 27 CFR part 44, which are not ATF forms, are filed. The attached table identifies the regulatory sections, authorities and documents to be filed, and the authorized ATF officials. The authorities in the table may not be redelegated.

5. Questions. If you have questions about this order, contact the Regulations Division (202-927-8210).

Bradley A. Buckles,
Director.

Regulatory section | Officer(s) authorized to act or receive document
§ 44.2(a) | Chief, Regulations Division, Chief, Domestic and International Trade Division, or Chief, Revenue Programs Division.
§ 44.35(c) | Inspector, Specialist, Auditor or Special Agent.
§ 44.62 | Area Supervisor.
§ 44.66 | Unit Supervisor, National Revenue Center (NRC).
§ 44.70 | Inspector, Specialist, Auditor or Special Agent.
§ 44.71 | Inspector, Specialist, Auditor or Special Agent.
§ 44.72 | Chief, Regulations Division. If alternate method or procedure does not affect an ATF approved formula, or import or export recordkeeping, Chief, NRC, may act upon the same method or procedure that has been approved by the Chief, Regulations Division.
§ 44.73 | Director of Industry Operations.
§ 44.83 | Unit Supervisor, NRC.
§ 44.84 | Unit Supervisor, NRC.
§ 44.91 | Unit Supervisor, NRC, or Area Supervisor.
§ 44.92 | Specialist, NRC, to cause investigation. Director of Industry Operations to give notice and to deny.
§ 44.93 | Section Chief, NRC, upon recommendation of Area Supervisor, to issue permit. Inspector, Specialist, Auditor or Special Agent to inspect permit.
§ 44.104 | Unit Supervisor, NRC.
§ 44.105 | Unit Supervisor, NRC.
§ 44.106 | Unit Supervisor, NRC.
§ 44.112 | Area Supervisor.
§ 44.121(b) | Section Chief, NRC.
§ 44.123 | Unit Supervisor, NRC.
§ 44.124 | Unit Supervisor, NRC, or Area Supervisor to require bond. Section Chief, NRC, to approve.
§ 44.125 | Unit Supervisor, NRC, or Area Supervisor to require bond. Section Chief, NRC, to approve request from surety.
§ 44.127 | Section Chief, NRC.
§ 44.129(a) | Section Chief, NRC.
§ 44.142(e) | Inspector, Specialist, Auditor or Special Agent.
§ 44.143(b) | Inspector, Specialist, Auditor or Special Agent.
§ 44.145 | Section Chief, NRC, or Area Supervisor.
§ 44.147 | Inspector, Specialist, Auditor or Special Agent.
§ 44.150 | Section Chief, NRC, or Area Supervisor.
§ 44.152 | Area Supervisor to whom report is made. To act on claim and to notify, Unit Supervisor, NRC, for claim of $10,000 or less, Section Chief, NRC, for claim of more than $10,000 but not more than $100,000 or Chief, NRC, for claim of more than $100,000.
§ 44.153 | Unit Supervisor, NRC, for claim of $10,000 or less, Section Chief, NRC, for claim of more than $10,000 but not more than $100,000 or Chief, NRC, for claim of more than $100,000.
§ 44.154 | Unit Supervisor, NRC, for claim of $10,000 or less, Section Chief, NRC, for claim of more than $10,000 but not more than $100,000 or Chief, NRC, for claim of more than $100,000.
§ 44.161 | Unit Supervisor, NRC, with whom documents are filed and to terminate bond liability.
§ 44.162 | Director of Industry Operations.
§ 44.184 | Chief, Regulations Division.
§ 44.199 | Unit Supervisor, NRC, with whom form is filed. Inspector, Specialist, Auditor or Special Agent to inspect.
§ 44.200 | Unit Supervisor, NRC.
§ 44.201 | Unit Supervisor, NRC, with whom form is filed. Inspector, Specialist, Auditor or Special Agent to inspect.
§ 44.202 | Unit Supervisor, NRC.
§ 44.203 | Unit Supervisor, NRC.
§ 44.204 | Unit Supervisor, NRC.
§ 44.205(b)(3) | Unit Supervisor, NRC.
§ 44.206 | Unit Supervisor, NRC.
§ 44.207 | Unit Supervisor, NRC.
§ 44.207a | Unit Supervisor, NRC.
§ 44.208 | Unit Supervisor, NRC.
§ 44.209 | Unit Supervisor, NRC.
§ 44.210 | Unit Supervisor, NRC.
§ 44.212 | Unit Supervisor, NRC.
§ 44.213 | Area Supervisor with whom notice is filed and to assign. Inspector, Specialist, Auditor or Special Agent to supervise. Unit Supervisor, NRC, with whom ATF form is filed.
§ 44.222 | Area Supervisor to detail and assign. Inspector, Specialist, Auditor or Special Agent to supervise.
§ 44.223 | Section Chief, NRC, to approve bond. Unit Supervisor, NRC, with whom claim is filed. Unit Supervisor, NRC, for claim of $10,000 or less, Section Chief, NRC, for claim of more than $10,000 but not more than $100,000 or Chief, NRC, for claim of more than $100,000.
§ 44.224 | Inspector, Specialist, Auditor or Special Agent.
§ 44.225 | Inspector, Specialist, Auditor or Special Agent.
§ 44.226 | Unit Supervisor, NRC.
§ 44.227 | Unit Supervisor, NRC.
§ 44.228 | Unit Supervisor, NRC, with whom certificate is filed.
§ 44.229 | Unit Supervisor, NRC, with whom application is filed.
§ 44.230 | Unit Supervisor, NRC.
§ 44.231 | Unit Supervisor, NRC.
§ 44.232 | Unit Supervisor, NRC, for claim of $10,000 or less, Section Chief, NRC, for claim of more than $10,000 but not more than $100,000 or Chief, NRC, for claim of more than $100,000.
§ 44.242 | Unit Supervisor, NRC.
§ 44.244 | Unit Supervisor, NRC.
§ 44.245 | Unit Supervisor, NRC, or Area Supervisor, to require bond. Section Chief, NRC, to approve bond.
§ 44.246 | Unit Supervisor, NRC, or Area Supervisor, to require bond. Section Chief, NRC, to approve bond termination.
§ 44.257 | Unit Supervisor, NRC, with whom form is filed. Inspector, Specialist, Auditor or Special Agent to inspect.
§ 44.258 | Unit Supervisor, NRC.
§ 44.259 | Unit Supervisor, NRC.
§ 44.260 | Unit Supervisor, NRC.
§ 44.261 | Unit Supervisor, NRC.
§ 44.262 | Unit Supervisor, NRC.
§ 44.263 | Unit Supervisor, NRC.
§ 44.264 | Unit Supervisor, NRC.
§ 44.264a | Unit Supervisor, NRC.
§ 44.265 | Unit Supervisor, NRC.
§ 44.266 | Inspector, Specialist or Special Agent.
§ 44.267 | Unit Supervisor, NRC, with whom form is filed. Inspector, Specialist, Auditor or Special Agent to inspect.

BILLING CODE 4810-31-P

[FR Doc. 02-11259 Filed 5-7-02; 8:45 am]

BILLING CODE 4810-31-C